DEPARTMENT OF HEALTH AND HUMAN SERVICES

Agency for Healthcare Research and Quality

Notice of Meeting

AGENCY: Agency for Healthcare Research and Quality (AHRQ), HHS.

ACTION: Notice of one AHRQ Subcommittee Meeting by Telephone Conference.

SUMMARY: The subcommittee listed below is part of AHRQ's Health Services Research Initial Review Group Committee. Grant applications are to be reviewed and discussed at this meeting.

Name of Subcommittee: Health Care Research Training 2.

DATES: July 13, 2017 (Open from 1:00 p.m. to 1:30 a.m. and closed for remainder of the meeting).

Place: Agency for Healthcare Research and Quality, 5600 Fishers Lane, Conference Room TBD, Rockville, MD 20857.

FOR FURTHER INFORMATION CONTACT: (to obtain a roster of members, agenda or minutes of the non-confidential portions of this meeting.)

Mrs. Bonnie Campbell, Committee Management Officer, Office of Extramural Research Education and Priority Populations, AHRQ, 5600 Fishers Lane, Rockville, Maryland 20857, Telephone (301) 427-1554.

SUPPLEMENTARY INFORMATION: This meeting will be closed to the public in accordance with 5 U.S.C. App. 2 section 10(d), 5 U.S.C. 552b(c)(4), and 5 U.S.C. 552b(c)(6). In accordance with section 10 (a)(2) of the Federal Advisory Committee Act (5 U.S.C. App. 2), AHRQ announces the meeting of the scientific peer review group listed above, which is a subcommittee of AHRQ's Health Services Research Initial Review Group Committee. This subcommittee meeting will be closed to the public in accordance with the provisions set forth in 5 U.S.C. App. 2 section 10(d), 5 U.S.C. 552b(c)(4), and 5 U.S.C. 552b(c)(6) The grant applications and the discussions could disclose confidential trade secrets or commercial property such as patentable material, and personal information concerning individuals associated with the grant applications, the disclosure of which would constitute a clearly unwarranted invasion of personal privacy.

Agenda items for these meetings are subject to change as priorities dictate.

Sharon B. Arnold,
Deputy Director.

[FR Doc. 2017-11587 Filed 6-5-17; 8:45 am]

BILLING CODE 4160-90-P